DEPARTMENT OF TRANSPORTATION

Maritime Administration

[Docket Number: MARAD 2006-25549]

Availability of a Finding of No Significant Impact

AGENCY: Department of Transportation, Maritime Administration.

ACTION: Notice of the availability of a Finding of No Significant Impact

SUMMARY: The purpose of this Notice is to make available to the public the Finding of No Significant Impact (FONSI) derived from the Environmental Assessment (EA) regarding the Decommissioning of the Nuclear Ship Savannah.

The objective of this Project is to consider the available decommissioning options for the Nuclear Regulatory Commission (NRC) licensed nuclear facilities onboard the N.S. Savannah.

FOR FURTHER INFORMATION CONTACT: Erhard W. Koehler, Manager, N.S. Savannah Programs, Office of Ship Disposal Programs, U.S. Maritime Administration, 1200 New Jersey Avenue, SE., Washington, DC 20590; telephone (202) 366-2631, fax (202) 366-3954; e-mail Erhard.koehler@dot.gov or savannah@dot.gov

SUPPLEMENTARY INFORMATION: NRC regulations at 10 CFR 50.82(a)(3) require decommissioning and license termination of nuclear power reactors within 60 years of permanent cessation of operations. For the N.S. Savannah, the effective end date for license termination occurs in 2031. The Maritime Administration completed an EA that studied potential environmental effects associated with three alternatives for decommissioning of the NRC-licensed nuclear power plant onboard the N.S. Savannah. The EA considered potential effects to the natural and human environment including: air quality; water quality; geology and soils; coastal resources; terrestrial resources; aquatic resources; navigation; hazardous materials; cultural and historic resources; visual and aesthetic resources; and other topics associated with the proposed action. The FONSI is based on the analysis presented in the Nuclear Ship Savannah Decommissioning EA.

Copies of the FONSI and the EA will be made available for review upon request. Requests may be forwarded by e-mail to savannah@dot.gov. The FONSI and EA may be viewed online at http://www.regulations.gov.

Authority: 49 CFR 1.66.

By Order of the Maritime Administrator.
Dated: May 7, 2008.
Christine Gurland,
Secretary, Maritime Administration.

[FR Doc. E8-10683 Filed 5-13-08; 8:45 am]

BILLING CODE 4910-81-P